DEPARTMENT OF LABOR

Employment and Training Administration

[TA-W-55,982]

Hewlett Packard, Corvallis, OR, Notice of Termination of Investigation

Pursuant to Section 221 of the Trade Act of 1974, as amended, an investigation was initiated on November 12, 2004 in response to a petition filed on behalf of workers at Hewlett Packard, Corvallis, Oregon.

The petition has been deemed invalid. There were not three petitioners from the same firm requesting certification to apply for trade adjustment assistance benefits.

Consequently, further investigation in this case would serve no purpose, and the investigation has been terminated.

Signed at Washington, DC, this 19th day of November, 2004.
Linda G. Poole,
Certifying Officer, Division of Trade Adjustment Assistance.

[FR Doc. E4-3584 Filed 12-8-04; 8:45 am]

BILLING CODE 4510-30-P